ENVIRONMENTAL PROTECTION AGENCY

[ER-FRL-9045-1]

Environmental Impact Statements; Notice of Availability

Responsible Agency: Office of Federal Activities, General Information 202-564-5632 or https://www.epa.gov/nepa/.

Weekly receipt of Environmental Impact Statements

Filed 05/20/2019 Through 05/24/2019.

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20190116, Final, FRA, VA, DC to Richmond Southeast High Speed Rail, Review Period Ends: 07/01/2019, Contact: John A. Winkle 202-493-6067.

EIS No. 20190117, Final, NOAA, MD, Mallows Bay-Potomac River National Marine Sanctuary Designation Final Environmental Impact Statement and Final Management Plan, Review Period Ends: 07/01/2019, Contact: Paul Orlando 240-460-1978.

EIS No. 20190118, Final, USFWS, WA, Skookumchuck Wind Energy Project Proposed Habitat Conservation Plan and Incidental Take Permit for Marbled Murrelet, Bald Eagle, and Golden Eagle Lewis and Thurston Counties, Washington, Review Period Ends: 07/01/2019, Contact: Curtis Tanner 360-753-4326.

EIS No. 20190119, Draft, BLM, OR, Draft Southeastern Oregon RMP/EIS, Comment Period Ends: 08/28/2019, Contact: Brent Grasty 541-473-3144.

EIS No. 20190120, Final, BIA, WI, Beloit Fee-to-Trust and Casino Project, Review Period Ends: 07/01/2019, Contact: Scott Doig 612-725-4514.

EIS No. 20190121, Final, BIA, CA, Tule River Indian Tribe Fee-to-Trust and Eagle Mountain Casino Relocation Project, Review Period Ends: 07/01/2019, Contact: Chad Broussard 916-978-6165.

EIS No. 20190122, Final, USACE, NY, East Rockaway Inlet to Rockaway Inlet and Jamaica Bay Reformulation, Atlantic Coast of New York, Review Period Ends: 07/01/2019, Contact: Peter Weppler 917-790-8634.

Dated: May 28, 2019.
Candi Schaedle,
Acting Director, Office of Federal Activities.

[FR Doc. 2019-11381 Filed 5-30-19; 8:45 am]

BILLING CODE 6560-50-P